DEPARTMENT OF HEALTH AND HUMAN SERVICES

Administration for Community Living

Agency Information Collection Activities: Submission for OMB Review; Comment Request; Developmental Disabilities Protection and Advocacy Statement of Goals and Priorities

AGENCY: Administration for Community Living, HHS.

ACTION: Notice.

SUMMARY: The Administration on Intellectual and Developmental Disabilities (AIDD), Administration for Community Living (ACL) is announcing an opportunity to comment on the proposed collection of information by the agency. Under the Paperwork Reduction Act of 1995 (the PRA), Federal agencies are required to publish notice in the Federal Register concerning each proposed collection of information, including each proposed extension of an existing collection of information, and to allow for public comment in response to the notice. This notice collects comments on the information collection requirements relating to an existing collection: Developmental Disabilities Protection and Advocacy Statement of Goals and Priorities (0985-0034).

DATES: Submit written comments on the collection of information by January 28, 2016.

ADDRESSES: Submit written comments on the collection of information by email to OIRA_submission@omb.eop.gov Attn: OMB Desk Officer for ACL.

FOR FURTHER INFORMATION CONTACT: Clare Barnett, Administration for Community Living, Administration on Intellectual and Developmental Disabilities, Office of Program Support, One Massachusetts Avenue NW., Room 4204, Washington, DC 20201, 202-357-3426.

SUPPLEMENTARY INFORMATION: Federal statute and regulation require each State Protection and Advocacy (P&A) System annually prepare for public comment a Statement of Goals and Priorities (SGP) for the P&A for Developmental Disabilities (PADD) program for each coming fiscal year. Following the required public input for the coming fiscal year, the P&A is required by Federal statute and regulation to submit the final version of the SGP to the Administration on Intellectual and Developmental Disabilities (AIDD). AIDD reviews the SGP for compliance and will aggregate the information in the SGPs into a national profile of programmatic emphasis for P&A Systems in the coming year to provide an overview of program direction, and permit AIDD to track accomplishments against goals and formulate areas of technical assistance and compliance with Federal requirements.

ACL estimates the burden of this collection of information as follows:

Annual Burden Estimates
Instrument | Number of respondents | Number of responses per respondent | Average burden hours per response | Total burden hours
PADD SGP | 57 | 1 | 16 | 912

Estimated Total Annual Burden Hours: 2,508

Dated: December 22, 2015.
Kathy Greenlee,
Administrator & Assistant Secretary for Aging.

[FR Doc. 2015-32667 Filed 12-28-15; 8:45 am]

BILLING CODE 4154-01-P